NATIONAL ARCHIVES AND RECORDS ADMINISTRATION

Information Security Oversight Office

National Industrial Security Program Policy Advisory Committee (NISPPAC)

AGENCY: National Archives and Records Administration, ISOO.

ACTION: Notice of open meeting.

SUMMARY: In accordance with the Federal Advisory Committee Act (5 U.S.C. app 2) and implementing regulation 41 CFR 101-6, announcement is made for a committee meeting of the National Industrial Security Program Policy Advisory Committee (NISPPAC).

DATES: October 8, 2009, 10 a.m. to 12 p.m.

ADDRESSES: National Archives and Records Administration, 700 Pennsylvania Avenue, NW., Archivist's Reception Room, Room 105, Washington, DC 20408.

FOR FURTHER INFORMATION CONTACT: David O. Best, Senior Program Analyst, ISOO, National Archives Building, 700 Pennsylvania Avenue, NW., Washington, DC 20408, telephone number (202) 357-5123, or at david.best@nara.gov. Contact ISOO at ISOO@nara.gov and the NISPPAC at NISPPAC@nara.gov.

SUPPLEMENTARY INFORMATION: To discuss National Industrial Security Program policy matters.

This meeting will be open to the public. However, due to space limitations and access procedures, the name and telephone number of individuals planning to attend must be submitted to the Information Security Oversight Office (ISOO) no later than Thursday October 1, 2009. ISOO will provide additional instructions for gaining access to the location of the meeting.

Dated: September 2, 2009.
Mary Ann Hadyka,
Committee Management Officer.

[FR Doc. E9-21693 Filed 9-8-09; 8:45 am]

BILLING CODE 7515-01-P